ENVIRONMENTAL PROTECTION AGENCY

[FRL-8195-9]

2006 Water Efficiency Leader Awards—Call for Applicants

AGENCY: Environmental Protection Agency (EPA).

ACTION: Notice.

SUMMARY: This notice announces the opening of the application period for the U.S. EPA's first annual Water Efficiency Leader Awards. The awards recognize those organizations and individuals who are providing leadership and innovation in water efficient products and practices. These proposed awards are intended to help foster a nationwide ethic of water efficiency, as well as to inspire, motivate, and recognize efforts to improve water efficiency. This program will enable EPA to document “best practices”, share information, encourage an ethic of water efficiency, and create a network of water efficiency leaders. Recognition will be given on the basis of persuasive community or organizational leadership in the area of water efficiency, originality and innovativeness, national/global perspective and implications, and overall improvements in water efficiency. Actual (as opposed to anticipated) results are preferred and applicants should be able to demonstrate the amount of water saved. Candidates may be from anywhere in the United States, they may work in either the public or the private sector, and they may be either self-nominated or nominated by a third party. The following sectors are encouraged to apply: Corporations, Industry, Individuals, Non-Governmental Organizations and other Associations, Institutions, and Teams, Local, State, Tribal, and Federal Governments, and Military Individuals and Organizations. In order to be considered, applicants must have a satisfactory compliance record with respect to environmental regulations and requirements. Applications will be judged by a panel of national water efficiency experts from a variety of sectors. The panelists will provide recommendations to EPA, who will then make the final decision. EPA reserves the right to contact nominees for additional information should it be deemed necessary.

To Apply: Send a brief description (one page or less) of the water efficient practice. Please remember to include your contact information.

DATES: Applications must be postmarked by July 21, 2006 in order to be considered.

ADDRESSES: Send applications to: Stephanie Thornton, 1200 Pennsylvania Ave., NW., Mail Code 4101M, Washington, DC 20460. Additional information on the recognition program is available at http://www.epa.gov/ow.

FOR FURTHER INFORMATION CONTACT: Stephanie Thornton, Telephone: (202) 564-0269. E-mail: thornton.stephanie@epa.gov.

Dated: June 22, 2006.
Benjamin H. Grumbles,
Assistant Administrator for Water.

[FR Doc. E6-10864 Filed 7-10-06; 8:45 am]

BILLING CODE 6560-50-P